FEDERAL COMMUNICATIONS COMMISSION

[OMB 3060-1222; FR ID 96879]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before August 22, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1222.

Title: Inmate Calling Services (ICS) Provider Annual Reporting, Certification, Consumer Disclosure, and Waiver Request Requirements.

Form Number(s): FCC Form 2301(a) and FCC Form 2301(b).

Type of Review: Revision of a currently approved collection.

Respondents: Business or other for-profit.

Number of Respondents and Responses: 20 respondents; 23 responses.

Estimated Time per Response: 5 hours-120 hours.

Frequency of Response: Annual reporting and certification requirements, third party disclosure and waiver request requirements.

Obligation to Respond: Required to obtain or retain benefits. Statutory authority for this collection of information is contained in sections 1, 4(i)-4(j), 201(b), 218, 220, 225, 255, 276, 403, and 617 of the Communications Act of 1934, as amended, 47 U.S.C. 151, 154(i)-(j), 201(b), 218, 220, 225, 255, 276, 403 and 617.

Total Annual Burden: 3,740 hours.

Total Annual Cost: No cost.

Privacy Act Impact Assessment: No impact(s).

Nature and Extent of Confidentiality: The Protective Order in the Commission's inmate calling services (ICS) proceeding, WC Docket 12-375, 28 FCC Rcd 16954 (WCB 2013), provides confidential treatment for the proprietary information submitted by (ICS providers in response to the Commission's directives. The Commission will treat as presumptively confidential any particular information identified as confidential by the provider in accordance with the Freedom of Information Act and Commission rules. Each confidential document should be stamped and submitted to the Secretary's Office with an accompanying cover letter, as specified by the Protective Order.

Needs and Uses: Section 201 of the Communications Act of 1934, as amended (Act), 47 U.S.C 201, requires that ICS providers' interstate and international rates and practices be just and reasonable. Section 276 of the Act, 47 U.S.C. 276, requires that payphone service providers (including ICS providers), be fairly compensated for completed calls.

In 2015, the Commission released the Second Report and Order and Third Notice of Further Proposed Rulemaking, WC Docket No. 12-375, 30 FCC Rcd 12763, (2015 ICS Order), in which the Commission required that ICS providers file Annual Reports providing data and other information on their ICS operations, as well as Annual Certifications that reported data are complete and accurate and comply with the Commission's ICS rules. Pursuant to the authority delegated it by the Commission in the 2015 ICS Order, the Wireline Competition Bureau (Bureau) created a standardized reporting template (FCC Form No. 2301(a)) and a related certification of accuracy (FCC Form No. 2301(b)), as well as instructions to guide providers through the reporting process. The instructions explain the reporting and certification requirements and reduce the burden of the data collection. (ICS Annual Reporting Form (2017-2019I, https://www.fcc.gov/general/ics-data-collections; ICS Annual Reporting Certification Form, https://www.fcc.gov/general/ics-data-collections).

In 2021, the Commission released the Third Report and Order, Order on Reconsideration, and Fifth Further Notice of Proposed Rulemaking (2021 ICS Order), WC Docket No. 12-375, 36 FCC Rcd (2021), in which the Commission continued its reform of the ICS marketplace. The Commission revised its rules by adopting, among other things, lower interim rate caps for interstate calls, new interim rate caps for international calls, and a new rate cap structure that requires ICS providers to differentiate between legally mandated and contractually required site commissions.

The 2021 rules necessitated further changes to the instructions and annual reporting and certification templates in order to simplify compliance with a reduce the burden of this data collection. On December 15, 2021, the Wireline Competition Bureau (Bureau) issued a Public Notice, WC 12-375, DA 21-1583 (WCB Dec. 15, 2021), seeking comment on its proposed revisions to the instructions and template for the Annual Reports and Certifications submitted by ICS providers. After considering the comments and replies submitted in response to the Public Notice, the Bureau released an Order on June 24, 2022 revising the instructions, reporting template, and certification form for the annual reports submitted by ICS providers. The reporting template consists of a Word document (Word template) and Excel spreadsheets (Excel template). See Annual Reports Adoption Order (DA 22-676, WC Docket No. 12-375 (WCB June 24, 2022), available at https://www.fcc.gov/document/wcb-announces-ics-annual-reporting-and-certification-revisions. The Order largely adopted the proposals contained in the Public Notice, with certain minor refinements and reevaluations responsive to comments and replies filed in response to the Public Notice.

Under the Bureau's Order, ICS providers must continue to submit all reports using the electronic template provided by the Commission, and to provide the data in a machine-readable, manipulatable format. The reporting requirements cover the general categories proposed in the Public Notice. These categories include the submission of information on facilities served; interstate, intrastate, and international ICS rates; ancillary service charges; site commissions; and disability access, among other matters. The Bureau adopted reporting requirements for interstate, international, and intrastate ICS rates as proposed, with minor revisions. Further, the Bureau adopted the reporting requirements for ancillary service charges assessed by ICS providers as proposed, with certain revisions. In addition, the Bureau adopted the reporting requirements as proposed concerning site commissions, with minor revisions. The Bureau also revised the instructions and reporting template to match these revisions, and to more precisely target the information to be reported in connection with providers' disability access services. The revised Word and Excel templates (collectively, FCC Form 2301(a)) and certification form (FCC Form 2301(b)) will be submitted for approval by the Office of Management and Budget.

Federal Communications Commission.
Marlene Dortch,
Secretary, Office of the Secretary.

[FR Doc. 2022-15637 Filed 7-21-22; 8:45 am]

BILLING CODE 6712-01-P